DEPARTMENT OF LABOR

Employment and Training Administration

YouthBuild; Solicitation for Grant Applications (SGA); SGA/DFA-PY 06-08 Amendment No. 1

AGENCY: Employment and Training Administration (ETA), Labor.

ACTION: Amendment.

SUMMARY: The Employment and Training Administration published a document in the Federal Register of April 26, 2007, announcing the availability of funds and solicitation for grant applications for YouthBuild Grants to provide disadvantaged youth with the education and employment skills for meaningful work and service to their communities. The document is hereby amended.

FOR FURTHER INFORMATION CONTACT: Donna Kelly, Grants Management Specialist, Telephone (202) 693-3934.

Amendment

In the Federal Register of April 26, 2007, in FR Volume 72, Number 80:

1. On page 20877, starting in the middle column, the question “Can a National or Regional Organization Apply to Serve Multiple Urban or Rural Communities?” and its answer is now deleted from the solicitation.

The solicitation is amended to add the following question: Can I Apply For Multiple Towns in One Application? If a town is large enough to reasonably support a YouthBuild program, the grant activities should generally be focused on one town. If the applicant determines that the town is not large enough to support a YouthBuild program, it may include additional towns and provide justification for the larger service area. If multiple towns are included together in the application, applicants must limit the total requested grant amount to $1.1 million.

2. On page 20878, in the middle column, Part III. (A) Eligible Applicants, it states the following: An organization is an eligible applicant for these grants if it is a public or private nonprofit agency or organization (including a consortium of such agencies or organizations with a designated lead applicant), including:

The solicitation is amended to read: An organization is an eligible applicant for these grants if it is a public or private nonprofit agency or organization (including a consortium of such agencies or organizations with a designated lead applicant), including, but not limited to:

3. On page 20878, in the left column, under Section I.D, “What Are Allowable Uses of Grant Funds”? (13), it states the following: Equipment, and/or supplies related to the YouthBuild activities funded through this grant are an allowable use of funds.

The solicitation is amended to add the following statement: The Department of Labor interprets this to mean that the purchase of construction materials to be used for houses as part of the training for YouthBuild participants would be an allowable use of grant funds.

4. On page 20878, in the right column, Section III.C. Matching Funds and Leveraged Resources. The solicitation is amended to add the following statement: Construction materials that are acquired without grant funds and are used for houses as part of the training for YouthBuild participants may be used in fulfilling the 25 percent match requirement. The match may be cash or in-kind resources and must meet all the requirements in accordance with the applicable Federal cost principles.

5. YouthBuild “Frequently Asked Questions (FAQs)” will be posted on the Department of Labor, Employment & Training Administration, Youth Services Web site and may be accessed at http://www.doleta.gov/youth_services/YouthBuild.cfm. The FAQs may be updated during the life of the competition.

Signed at Washington, DC, this 14th day of May, 2007.
Eric Luetkenhaus,
Grant Officer, Employment & Training Administration.

[FR Doc. E7-9654 Filed 5-18-07; 8:45 am]

BILLING CODE 4510-FT-P